DEPARTMENT OF ENERGY

Federal Energy Regulatory Commission

Combined Notice of Filings #1

Take notice that the Commission received the following electric corporate filings:

Docket Numbers: EC25-2-000.

Applicants: DESRI Holdings, L.P., Airport Solar LLC, Assembly Solar, LLC, Assembly Solar I, LLC, Assembly Solar II, LLC, Assembly Solar III, LLC, Arroyo Solar LLC, Arroyo Energy Storage LLC, Balko Wind, LLC, Balko Wind Transmission, LLC, Bartonsville Energy Facility, LLC, Big River Solar, LLC, Blue Bird Solar, LLC, Castle Solar, LLC, Cuyama Solar, LLC, Cove Mountain Solar, LLC, Cove Mountain Solar 2, LLC, Dressor Plains Solar, LLC, Drew Solar, LLC, Drew Solar-CA, LLC, DWW Solar II, LLC, Elektron Solar, LLC, Gravel Pit Solar III, LLC, Gravel Pit Solar IV, LLC, Gray Hawk Solar, LLC, Hecate Energy Highland LLC, Highland Solar Transco Interconnection LLC, Horseshoe Solar, LLC, Hunter Solar LLC, Hunter Solar, LLC, Iris Solar, LLC, Long Lake Solar, LLC, MS Solar 2, LLC, North Star Solar PV LLC, Portal Ridge Solar B, LLC, Portal Ridge Solar C, LLC, Prairie State Solar, LLC, Rancho Seco Solar II LLC, Red Horse III, LLC, Red Horse Wind 2, LLC, River Fork Solar, LLC, Rocket Solar, LLC, Rocking R Solar, LLC, San Juan Solar 1, LLC, Sigurd Solar LLC, SJS 1 Storage, LLC, Speedway Solar, LLC, St. James Solar, LLC, Steel Solar, LLC, TPE Alta Luna, LLC, Willow Springs Solar, LLC, Sunlight Road Solar, L.L.C., 62SK 8ME LLC, 63SU 8ME LLC.

Description: Amendment to 10/04/2024, Application for Authorization Under Section 203 of the Federal Power Act of DESRI Holdings, L.P.

Filed Date: 10/7/24.

Accession Number: 20241007-5183.

Comment Date: 5 p.m. ET 10/28/24.

Docket Numbers: EC25-3-000.

Applicants: Apple Energy LLC.

Description: Application for Authorization Under Section 203 of the Federal Power Act of Apple Energy LLC.

Filed Date: 10/8/24.

Accession Number: 20241008-5202.

Comment Date: 5 p.m. ET 10/29/24.

Docket Numbers: EC25-4-000.

Applicants: The Dayton Power and Light Company, Astrid Holdings LP.

Description: Joint Application for Authorization Under Section 203 of the Federal Power Act of The Dayton Power and Light Company, et al.

Filed Date: 10/10/24.

Accession Number: 20241010-5016.

Comment Date: 5 p.m. ET 10/31/24.

Take notice that the Commission received the following electric rate filings:

Docket Numbers: ER17-1329-004.

Applicants: J.P. Morgan Ventures Energy Corporation.

Description: Compliance filing: Update to MBR Tariff of J.P. Morgan Ventures Energy Corp to be effective 11/20/2023.

Filed Date: 10/10/24.

Accession Number: 20241010-5189.

Comment Date: 5 p.m. ET 10/31/24.

Docket Numbers: ER24-2725-000.

Applicants: Lone Star Solar, LLC.

Description: Supplement to 08/08/2024 Lone Star Solar, LLC tariff filing.

Filed Date: 10/8/24.

Accession Number: 20241008-5201.

Comment Date: 5 p.m. ET 10/18/24.

Docket Numbers: ER24-2869-000.

Applicants: Downeast Wind, LLC.

Description: Report Filing: Supplement to Submit Application for MBR Authorization Filing to be effective N/A.

Filed Date: 9/18/24.

Accession Number: 20240918-5078.

Comment Date: 5 p.m. ET 10/21/24.

Docket Numbers: ER25-69-000.

Applicants: PJM Interconnection, L.L.C.

Description: 205(d) Rate Filing: Amendment to ISA, Service Agreement No. 6131; AE2-042 to be effective 12/9/2024.

Filed Date: 10/9/24.

Accession Number: 20241009-5184.

Comment Date: 5 p.m. ET 10/30/24.

Docket Numbers: ER25-70-000.

Applicants: Fox Squirrel Solar LLC.

Description: 205(d) Rate Filing: 2024-10-09 Fox Squirrel Phase III Reactive Power Rate Schedule Filing to be effective 12/31/9998.

Filed Date: 10/9/24.

Accession Number: 20241009-5191.

Comment Date: 5 p.m. ET 10/30/24.

Docket Numbers: ER25-71-000.

Applicants: Southwest Power Pool, Inc.

Description: 205(d) Rate Filing: Calculation of RTBM Prices in the Event of a System Failure to be effective 12/10/2024.

Filed Date: 10/10/24.

Accession Number: 20241010-5014.

Comment Date: 5 p.m. ET 10/31/24.

Docket Numbers: ER25-72-000.

Applicants: American Transmission Systems, Incorporated, PJM Interconnection, L.L.C.

Description: 205(d) Rate Filing: American Transmission Systems, Incorporated submits tariff filing per 35.13(a)(2)(iii): ATSI submits IA—SA No. 7218 to be effective 12/10/2024.

Filed Date: 10/10/24.

Accession Number: 20241010-5017.

Comment Date: 5 p.m. ET 10/31/24.

Docket Numbers: ER25-73-000.

Applicants: Midcontinent Independent System Operator, Inc.

Description: 205(d) Rate Filing: 2024-10-10_SA 3454 Entergy Arkansas-Flat Fork Solar 2nd Rev GIA (J907 J1434) to be effective 10/2/2024.

Filed Date: 10/10/24.

Accession Number: 20241010-5020.

Comment Date: 5 p.m. ET 10/31/24.

Docket Numbers: ER25-74-000.

Applicants: Midcontinent Independent System Operator, Inc.

Description: 205(d) Rate Filing: 2024-10-10_SA 4360 ATC-Wisconsin Power and Light GIA (J1793) to be effective 9/30/2024.

Filed Date: 10/10/24.

Accession Number: 20241010-5033.

Comment Date: 5 p.m. ET 10/31/24.

Docket Numbers: ER25-75-000.

Applicants: Midcontinent Independent System Operator, Inc.

Description: 205(d) Rate Filing: 2024-10-10_SA 4361 ATC-Ursa Solar GIA (J1629) to be effective 10/1/2024.

Filed Date: 10/10/24.

Accession Number: 20241010-5089.

Comment Date: 5 p.m. ET 10/31/24.

Docket Numbers: ER25-76-000.

Applicants: Alabama Power Company, Georgia Power Company, Mississippi Power Company.

Description: 205(d) Rate Filing: Alabama Power Company submits tariff filing per 35.13(a)(2)(iii): Forsyth Solar LGIA Filing to be effective 10/2/2024.

Filed Date: 10/10/24.

Accession Number: 20241010-5095.

Comment Date: 5 p.m. ET 10/31/24.

Docket Numbers: ER25-77-000.

Applicants: PJM Interconnection, L.L.C.

Description: 205(d) Rate Filing: Amendment to ISA Service Agreement No. 4425; Z2-076 to be effective 12/10/2024.

Filed Date: 10/10/24.

Accession Number: 20241010-5129.

Comment Date: 5 p.m. ET 10/31/24.

Docket Numbers: ER25-78-000.

Applicants: Dominion Energy South Carolina, Inc.

Description: 205(d) Rate Filing: CEPC Facility Construction Agreement to be effective 12/10/2024.

Filed Date: 10/10/24.

Accession Number: 20241010-5151.

Comment Date: 5 p.m. ET 10/31/24.

Docket Numbers: ER25-79-000.

Applicants: American Transmission Systems, Incorporated, PJM Interconnection, L.L.C.

Description: 205(d) Rate Filing: American Transmission Systems, Incorporated submits tariff filing per 35.13(a)(2)(iii): ATSI submits Construction Agreement, SA No. 7267 to be effective 12/10/2024.

Filed Date: 10/10/24.

Accession Number: 20241010-5166.

Comment Date: 5 p.m. ET 10/31/24.

Docket Numbers: ER25-80-000.

Applicants: American Transmission Systems, Incorporated, PJM Interconnection, L.L.C.

Description: 205(d) Rate Filing: American Transmission Systems, Incorporated submits tariff filing per 35.13(a)(2)(iii): ATSI submits Construction Agreement, SA No. 7263 to be effective 12/10/2024.

Filed Date: 10/10/24.

Accession Number: 20241010-5193.

Comment Date: 5 p.m. ET 10/31/24.

Docket Numbers: ER25-81-000.

Applicants: Metropolitan Edison Company.

Description: Tariff Amendment: Notice of Cancellation of MBR Tariff to be effective 10/11/2024.

Filed Date: 10/10/24.

Accession Number: 20241010-5213.

Comment Date: 5 p.m. ET 10/31/24.

Docket Numbers: ER25-82-000.

Applicants: Pennsylvania Electric Company.

Description: Tariff Amendment: Notice of Cancellation of MBR Tariff to be effective 10/11/2024.

Filed Date: 10/10/24.

Accession Number: 20241010-5214.

Comment Date: 5 p.m. ET 10/31/24.

Docket Numbers: ER25-83-000.

Applicants: Pennsylvania Power Company.

Description: Tariff Amendment: Notice of Cancellation of MBR Tariff to be effective 10/11/2024.

Filed Date: 10/10/24.

Accession Number: 20241010-5218.

Comment Date: 5 p.m. ET 10/31/24.

Docket Numbers: ER25-84-000.

Applicants: West Penn Power Company.

Description: Tariff Amendment: Notice of Cancellation of MBR Tariff to be effective 10/11/2024.

Filed Date: 10/10/24.

Accession Number: 20241010-5220.

Comment Date: 5 p.m. ET 10/31/24.

Take notice that the Commission received the following electric securities filings:

Docket Numbers: ES25-2-000; ES25-3-000; ES25-4-000 ES25-5-000; ES25-6-000; ES25-7-000.

Applicants: System Energy Resources, Inc., Entergy Texas, Inc., Entergy New Orleans, LLC, Entergy Mississippi, LLC, Entergy Louisiana, LLC, Entergy Arkansas, LLC.

Description: Application Under Section 204 of the Federal Power Act for Authorization to Issue Securities of Entergy Arkansas, LLC, et al.

Filed Date: 10/4/24.

Accession Number: 20241004-5224.

Comment Date: 5 p.m. ET 10/25/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 10, 2024.
Debbie-Anne A. Reese,
Secretary.

[FR Doc. 2024-23946 Filed 10-16-24; 8:45 am]

BILLING CODE 6717-01-P